ENVIRONMENTAL PROTECTION AGENCY

[FRL-10480-01-OA]

Local Government Advisory Committee (LGAC) Meeting

AGENCY: Environmental Protection Agency (EPA).

ACTION: Notification of public meeting.

SUMMARY: Pursuant to the Federal Advisory Committee Act (FACA), EPA herby provides notice of a meeting for the Local Government Advisory Committee (LGAC) and the Small Communities Advisory Subcommittee (SCAS) on the date and time described below. This meeting will be open to the public. For information on public attendance and participation, please see the registration information under SUPPLEMENTARY INFORMATION. Due to holiday schedules, EPA is announcing this meeting with less than 15 calendar days' of notice.

DATES: The LGAC will meet virtually December 16th, 2022, from 12 p.m. through 2 p.m. Eastern Standard Time.

FOR FURTHER INFORMATION CONTACT: Paige Lieberman, Designated Federal Officer (DFO), at LGAC@epa.gov or 202-564-9957 Information on Accessibility: For information on access or services for individuals requiring accessibility accommodations, please contact Paige Lieberman by email at LGAC@epa.gov. To request accommodation, please do so five (5) business days prior to the meeting, to give EPA as much time as possible to process your request.

SUPPLEMENTARY INFORMATION: The LGAC has been deliberating on the following issues and will discuss and vote on recommendations at this meeting.

TOPIC 1: Green Gas Reduction Fund

Read background on the program here: https://www.epa.gov/inflation-reduction-act/greenhouse-gas-reduction-fund.

TOPIC 2: Lead and Copper Rule Improvements

Read background on the proposed rule here: https://www.epa.gov/ground-water-and-drinking-water/lead-and-copper-rule-improvements.

All interested persons are invited to attend and participate. The LGAC will hear comments from the public from approximately 1:40-1:50 p.m. (EST). Individuals or organizations wishing to address the Committee or Subcommittee will be allowed a maximum of five (5) minutes to present their point of view. Also, written comments should be submitted electronically to LGAC@epa.gov for the LGAC and SCAS. Please contact the DFO at the email listed under FOR FURTHER INFORMATION CONTACT to schedule a time on the agenda by December 14, 2021. Time will be allotted on a first-come first-served basis, and the total period for comments may be extended if the number of requests for appearances requires it.

Registration

The meeting will be held virtually through an online audio and video platform. Members of the public who wish to participate should register by contacting the Designated Federal Officer (DFO) at LGAC@epa.gov by December 14, 2022. The agenda and other supportive meeting materials will be available online at https://www.epa.gov/ocir/local-government-advisory-committee-lgac and will be emailed to all registered. In the event of cancellation for unforeseen circumstances, please contact the DFO or check the website above for reschedule information.

Dated: December 1, 2022.
Paige Lieberman,
Designated Federal Officer, U.S. Environmental Protection Agency.

[FR Doc. 2022-26563 Filed 12-6-22; 8:45 am]

BILLING CODE 6560-50-P